INTERNATIONAL TRADE COMMISSION

[Investigation No. 332-598]

Greenhouse Gas Emissions Intensities of the U.S. Steel and Aluminum Industries at the Product Level

AGENCY: United States International Trade Commission.

ACTION: Notice of investigation and scheduling of a public hearing.

SUMMARY: Following receipt on June 5, 2023, of a request from the U.S. Trade Representative (USTR), under section 332(g) of the Tariff Act of 1930, the U.S. International Trade Commission (Commission) instituted Investigation No. 332-598, Greenhouse Gas Emissions Intensities of the U.S. Steel and Aluminum Industries at the Product Level. The USTR requested that the Commission conduct an investigation and prepare a report that assesses the greenhouse gas emissions intensity of steel and aluminum products produced in the United States.

DATES:

November 17, 2023: Deadline for filing requests to appear at the public hearing.

November 21, 2023: Deadline for filing prehearing briefs and statements.

November 29, 2023: Deadline for filing electronic copies of oral hearing statements.

December 7, 2023: Public hearing.

December 21, 2023: Deadline for filing posthearing briefs and statements.

June 28, 2024: Deadline for filing all other written submissions.

January 28, 2025: Transmittal of Commission report to the USTR.

ADDRESSES: All Commission offices, including the Commission's hearing rooms, are located in the U.S. International Trade Commission Building, 500 E Street SW, Washington, DC. All written submissions should be addressed to the Secretary, U.S. International Trade Commission, 500 E Street SW, Washington, DC 20436. The public record for this investigation may be viewed on the Commission's electronic docket (EDIS) at https://edis.usitc.gov.

FOR FURTHER INFORMATION CONTACT: Project Leader Caroline Peters (202-708-1443 or caroline.peters@usitc.gov), Deputy Project Leader Shova KC (202-205-2234 or shova.kc@usitc.gov) or Deputy Project Leader Alexander Melton (202-708-1665 or alexander.melton@usitc.gov) for information specific to this investigation. For information on the legal aspects of this investigation, contact Brian Allen (202-205-3034 or brian.allen@usitc.gov) or William Gearhart (202-205-3091 or william.gearhart@usitc.gov) of the Commission's Office of the General Counsel. The media should contact Jennifer Andberg, Office of External Relations (202-205-3404 or jennifer.andberg@usitc.gov).

Hearing-impaired individuals are advised that information on this matter can be obtained by contacting the Commission's TDD terminal on 202-205-1810. General information concerning the Commission may be obtained by accessing its internet address (https://www.usitc.gov). Persons with mobility impairments who will need special assistance in gaining access to the Commission should contact the Office of the Secretary at 202-205-2000.

SUPPLEMENTARY INFORMATION:

Background: As requested in the letter received from the USTR on June 5, 2023, the Commission has instituted an investigation under section 332(g) of the Tariff Act of 1930 (19 U.S.C. 1332(g)) to prepare a report that assesses the greenhouse gas (GHG) emissions intensity of steel and aluminum produced in the United States, which the USTR states will help to inform discussions regarding the Global Arrangement on Sustainable Steel and Aluminum. To this end, the Commission intends to conduct a survey by issuing questionnaires to firms with facilities producing steel and aluminum in the United States, whether the firms are U.S.- or foreign-owned, to collect data on their production of these goods and associated GHG emissions. The Commission will post the draft questionnaire on its website for public comment and will post the final questionnaire on its website once the questionnaire is ready to be issued.

The GHG emissions intensity estimates presented in the report will include the following types of GHG emissions:

1. Scope 1—GHG emissions related to the production of steel and aluminum. Scope 1 GHG emissions are the direct emissions from the facility's owned or controlled sources. These include the facility's fuel combustion emissions, process emissions (emissions from industrial processes involving chemical or physical transformations other than fuel combustion), and emissions from the facility's own electricity generation.

2. Scope 2—GHG emissions related to the production of steel and aluminum. Scope 2 GHG emissions are the indirect emissions from the generation of the facility's purchased energy, including electricity, steam, heat, or cooling.

3. Certain scope 3—GHG emissions associated with material and resource inputs for the production of steel and aluminum. Scope 3 GHG emissions are indirect emissions not included in scope 2 that occur in the value chain of the reporting company. For purposes of this investigation, the Commission will analyze only a specific subset of upstream scope 3 GHG emissions associated with U.S. facilities' intermediate steel and aluminum inputs purchased from other sources and used in production. These intermediate inputs could include iron ore, coke, ore-based metallics, semi-finished steel and other steel substrate suitable for further processing, carbon anodes, unwrought aluminum, and wrought aluminum suitable for further processing.

In presenting the GHG emissions intensity estimates, the report will describe the methodologies used to collect relevant information and to analyze product-specific GHG emissions intensity for the range of steel and aluminum products made in the United States, and provide estimates for the highest and average GHG emissions intensities for the products analyzed. The report will also identify the stages within the steel and aluminum production processes at which associated GHG emissions occur and identify the locations (i.e., originating countries) of scope 3 emissions associated with U.S. steel and aluminum products. Scope 3 emissions intensity estimates may be derived from the volume and origin of intermediate inputs from foreign and domestic sources as well as information regarding the emissions intensity of such inputs.

As requested by the USTR, the Commission will deliver the report no later than January 28, 2025. Since USTR has indicated that it intends to make this report available to the public in its entirety, the Commission will not include confidential business or national security classified information in its report. However, as detailed below, participants may submit confidential information to the Commission to inform its understanding of these issues, and such information will be protected in accordance with the Commission's Rules of Practice and Procedure. Participants are strongly encouraged to provide any supporting data and information along with their views.

Public Hearing: A public hearing in connection with this investigation will be held in person beginning at 9:30 a.m. on December 7, 2023, in the Main Hearing Room of the U.S. International Trade Commission, 500 E Street SW, Washington, DC 20436. The hearing can also be accessed remotely using the WebEx videoconference platform. A link to the hearing will be posted on the Commission's website at https://www.usitc.gov/calendarpad/calendar.html.

Requests to appear at the hearing should be filed with the Secretary to the Commission no later than 5:15 p.m., November 17, 2023, in accordance with the requirements in the “Written Submissions” section below. Any requests to appear as a witness via videoconference must be included with your request to appear. Requests to appear as a witness via videoconference must include a statement explaining why the witness cannot appear in person; the Chairman, or other person designated to conduct the investigation, may at their discretion for good cause shown, grant such requests. Requests to appear as a witness via videoconference due to illness or a positive COVID-19 test result may be submitted by 3 p.m. the business day prior to the hearing.

All prehearing briefs and statements should be filed no later than 5:15 p.m., November 21, 2023. To facilitate the hearing, including the preparation of an accurate written public transcript of the hearing, oral testimony to be presented at the hearing must be submitted to the Commission electronically no later than 5:15 p.m., November 29, 2023. All posthearing briefs and statements should be filed no later than 5:15 p.m., December 21, 2023. Posthearing briefs and statements should address matters raised at the hearing. For a description of the different types of written briefs and statements, see the “Definitions” section below.

In the event that, as of the close of business on November 17, 2023, no witnesses are scheduled to appear at the hearing, the hearing will be canceled. Any person interested in attending the hearing as an observer or nonparticipant should check the Commission website as indicated above for information concerning whether the hearing will be held.

Written submissions: In lieu of or in addition to participating in the hearing, interested persons are invited to file written submissions concerning this investigation. All written submissions should be addressed to the Secretary, and should be received no later than 5:15 p.m., June 28, 2024. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person, paper-based filings or paper copies of any electronic filings will be accepted until further notice. Persons with questions regarding electronic filing should contact the Office of the Secretary, Docket Services Division (202-205-1802), or consult the Commission's Handbook on Filing Procedures.

Definitions of types of documents that may be filed; Requirements: In addition to requests to appear at the hearing, this notice provides for the possible filing of four types of documents: prehearing briefs, oral hearing statements, posthearing briefs, and other written submissions.

(1) Prehearing briefs refers to written materials relevant to the investigation and submitted in advance of the hearing, and includes written views on matters that are the subject of the investigation, supporting materials, and any other written materials that you consider will help the Commission in understanding your views. You should file a prehearing brief particularly if you plan to testify at the hearing on behalf of an industry group, company, or other organization, and wish to provide detailed views or information that will support or supplement your testimony.

(2) Oral hearing statements (testimony) refers to the actual oral statement that you intend to present at the hearing. Do not include any confidential business information (CBI) in that statement. If you plan to testify, you must file a copy of your oral statement by the date specified in this notice. This statement will allow Commissioners to understand your position in advance of the hearing and will also assist the court reporter in preparing an accurate transcript of the hearing (e.g., names spelled correctly).

(3) Posthearing briefs refers to submissions filed after the hearing by persons who appeared at the hearing. Such briefs: (a) should be limited to matters that arose during the hearing; (b) should respond to any Commissioner and staff questions addressed to you at the hearing; (c) should clarify, amplify, or correct any statements you made at the hearing; and (d) may, at your option, address or rebut statements made by other participants in the hearing.

(4) Other written submissions refers to any other written submissions that interested persons wish to make, regardless of whether they appeared at the hearing, and may include new information or updates of information previously provided.

In accordance with the provisions of section 201.8 of the Commission's Rules of Practice and Procedure (19 CFR 201.8), the document must identify on its cover (1) the investigation number and title and the type of document filed (i.e., prehearing brief, oral statement of (name), posthearing brief, or written submission), (2) the name and signature of the person filing it, (3) the name of the organization that the submission is filed on behalf of, and (4) whether it contains CBI. If it contains CBI, it must comply with the marking and other requirements set out below in this notice relating to CBI. Submitters of written documents (other than oral hearing statements) are encouraged to include a short summary of their position or interest at the beginning of the document, and a table of contents when the document addresses multiple issues.

Confidential business information: Any submissions that contain CBI must also conform to the requirements of section 201.6 of the Commission's Rules of Practice and Procedure (19 CFR 201.6). Section 201.6 of the rules requires that the cover of the document and the individual pages be clearly marked as to whether they are the “confidential” or “nonconfidential” version, and that the CBI is clearly identified by means of brackets. All written submissions, except for CBI, will be made available for inspection by interested persons.

As requested by the USTR, the Commission will not include any CBI in its report. However, all information, including CBI, submitted in this investigation may be disclosed to and used: (i) by the Commission, its employees and Offices, and contract personnel (a) for developing or maintaining the records of this or a related proceeding, or (b) in internal investigations, audits, reviews, and evaluations relating to the programs, personnel, and operations of the Commission, including under 5 U.S.C. appendix 3; or (ii) by U.S. Government employees and contract personnel for cybersecurity purposes. The Commission will not otherwise disclose any CBI in a way that would reveal the operations of the firm supplying the information.

Summaries of written submissions: Persons wishing to have a summary of their position included in the report should include a summary with their written submission no later than June 28, 2024, and should mark the summary as having been provided for that purpose. The summary should be clearly marked as “summary for inclusion in the report” at the top of the page. The summary may not exceed 500 words and should not include any CBI. The summary will be published as provided if it meets these requirements and is germane to the subject matter of the investigation. The Commission will list the name of the organization furnishing the summary and will include a link where the written submission can be found.

By order of the Commission.
Issued: July 5, 2023.
Lisa Barton,
Secretary to the Commission.

[FR Doc. 2023-14500 Filed 7-7-23; 8:45 am]

BILLING CODE 7020-02-P